ENVIRONMENTAL PROTECTION AGENCY

[EPA-HQ-OECA-2012-0690; FRL-10000-03-OMS]

Information Collection Request Submitted to OMB for Review and Approval; Comment Request; NESHAP for Automobile and Light-Duty Truck Surface Coating (Renewal)

AGENCY: Environmental Protection Agency (EPA).

ACTION: Notice.

SUMMARY: The Environmental Protection Agency (EPA) has submitted an information collection request (ICR), NESHAP for Automobile and Light-duty Truck Surface Coating (EPA ICR Number 2045.08, OMB Control Number 2060-0550), to the Office of Management and Budget (OMB) for review and approval in accordance with the Paperwork Reduction Act. This is a proposed extension of the ICR, which is currently approved through November 30, 2019. Public comments were previously requested, via the Federal Register (84 FR 19777), on May 6, 2019 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before October 28, 2019.

ADDRESSES: Submit your comments, referencing Docket ID Number EPA-HQ-OECA-2012-0690, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at either www.regulations.gov, or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Automobile and Light-duty Truck Surface Coating (40 CFR part 63, subpart IIII) apply to new, reconstructed, or existing facilities that apply topcoat to new automobile or new light-duty truck bodies or body parts for new automobiles or new light-duty trucks, and that is a major source, is located at a major source, or is part of a major source of emissions of hazardous air pollutants (HAP). New facilities include those that commenced either construction, or reconstruction after the date of proposal.

Owners and operators of major sources of HAP that apply topcoat to new automobile or new light-duty truck bodies or body parts for new automobiles or new light-duty trucks are required to comply with reporting and record keeping requirements for the General Provisions (40 CFR part 63, subpart A), as well as for the applicable standards in 40 CFR part 63, subpart IIII. This includes submitting notifications, performance test reports, and periodic reports, as well as maintaining records of the occurrence and duration of any startup, shutdown, or malfunction in the operation of an affected facility; continuous parameter monitoring data; or any period during which the monitoring system is inoperative. These reports are used by the EPA to determine compliance with 40 CFR part 63, subpart IIII.

Form Numbers: None.

Respondents/affected entities: Facilities that perform surface coating on automobile or light-duty trucks.

Respondent's obligation to respond: Mandatory (40 CFR part 63, subpart IIII).

Estimated number of respondents: 43 (total).

Frequency of response: Periodically and semiannually.

Total estimated burden: 17,500 hours (per year). Burden is defined at 5 CFR 1320.3(b).

Total estimated cost: $2,070,000 (per year), which includes $51,600 in annualized capital/startup and/or operation & maintenance costs.

Changes in the Estimates: The decrease in burden from the most recently-approved ICR is due to a decrease in the number of sources subject to the rule. This estimate is based on Agency analyses conducted during the development the Risk and Technology Review for this subpart. This decrease in the number of sources leads to a decrease in the number of responses, reporting and recordkeeping hours, and a decrease in the operation and maintenance (O&M) costs as compared with the costs in the previous ICR.

Courtney Kerwin,
Director, Regulatory Support Division.

[FR Doc. 2019-20952 Filed 9-25-19; 8:45 am]

BILLING CODE 6560-50-P